DEPARTMENT OF LABOR

Employment and Training Administration

[TA-W-63,818]

Delphi Thermal Systems Currently Known as General Motors Components Holdings LLC, Lockport Operations, Lockport, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 25, 2008, applicable to workers of Delphi Thermal Systems, Lockport Operations, Lockport, New York. The notice was published in the Federal Register on October 8, 2008 (73 FR 58981).

At the request of the State Agency, the Department reviewed the certification for workers of the subject firm. The workers are engaged in activities related to the production of automotive heat exchanger products and HVAC modules.

New information shows that following a bankruptcy agreement, Delphi Thermal Systems was taken over by General Motors and is currently known as General Motors Components Holdings LLC. Workers separated from employment at the subject firm had their wages reported under two separate unemployment insurance (UI) tax accounts under the names of General Motors Components Holdings LLC and Delphi Thermal Systems.

Accordingly, the Department is amending this certification to properly reflect this matter.

The intent of the Department's certification is to include all workers of Delphi Thermal Systems, currently known as General Motors Components Holdings LLC, Lockport, New York, who were adversely affected by imports of articles like or directly competitive with automotive heat exchanger products and HVAC modules.

The amended notice applicable to TA-W-63,818 is hereby issued as follows:

All workers of Delphi Thermal Systems, currently known as General Motors Components Holdings LLC, Lockport Operations, Lockport, New York, who became totally or partially separated from employment on or after August 4, 2007 through September 25, 2010 are eligible to apply for adjustment assistance under Section 223 of the Trade Act of 1974, and are also eligible to apply for alternative trade adjustment assistance under Section 246 of the Trade Act of 1974.

Signed in Washington, DC, this 6th day of April 2010.
Elliott S. Kushner,
Certifying Officer, Division of Trade Adjustment Assistance.

[FR Doc. 2010-8881 Filed 4-16-10; 8:45 am]

BILLING CODE 4510-FN-P